DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On January 6, 2023, OFAC determined that the property and interests in property subject to U.S. jurisdiction of the following persons are blocked under the relevant sanctions authority listed below.

Individuals

Designated pursuant to section 1(a)(iv) of E.O. 13382 for acting or purporting to act for or on behalf of, directly or indirectly, AEROSPACE INDUSTRIES ORGANIZATION.

On January 6, 2023, OFAC published revised information for the following person on OFAC's SDN List.

Entity

1. QODS AVIATION INDUSTRIES (a.k.a. GHODS AVIATION INDUSTRIES; a.k.a. LIGHT AIRPLANES DESIGN AND MANUFACTURING INDUSTRIES; a.k.a. QODS RESEARCH CENTER), P.O. Box 15875-1834, Km 5 Karaj Special Road, Tehran, Iran; Unit (or Suite) 207, Saleh Blvd., Tehran, Iran; Unit 207, Tarajit Maydane Taymori (or Teimori) Square, Basiri Building, Tarasht, Tehran, Iran; Additional Sanctions Information—Subject to Secondary Sanctions [NPWMD] [IFSR] [RUSSIA-EO14024].

Designated pursuant to section 1(a)(iii) of E.O. 13382 on December 12, 2013 for having provided, or attempted to provide, financial, material, technological or other support for, or goods or services in support of, the MINISTRY OF DEFENSE AND ARMED FORCES LOGISTICS.

Designated pursuant to section 1(a)(iv) of E.O. 13382 on December 12, 2013 for being owned or controlled by, or acting or purporting to act for or on behalf of, directly or indirectly, the ISLAMIC REVOLUTIONARY GUARD CORPS.

Designated pursuant to Section l(a)(ii)(F) of E.O. 14024 on November 15, 2022 for engaging in activities that undermine the peace, security, political stability, or territorial integrity of the United States, its allies, or its partners.

Dated: January 6, 2022.
Andrea M. Gacki,
Director, Office of Foreign Assets Control, U.S. Department of the Treasury.

[FR Doc. 2023-00376 Filed 1-10-23; 8:45 am]

BILLING CODE 4810-AL-P